DEPARTMENT OF HEALTH AND HUMAN SERVICES

Meeting of the Pain Management Best Practices Inter-Agency Task Force

AGENCY: Office of the Assistant Secretary for Health, Office of the Secretary, Department of Health and Human Services.

ACTION: Notice.

SUMMARY: As stipulated by the Federal Advisory Committee Act, the Department of Health and Human Services (HHS) is hereby giving notice that a meeting is scheduled to be held for the Pain Management Best Practices Inter-Agency Task Force (Task Force). The meeting will be open to the public; public comment sessions will be held during the meeting.

DATES: The Task Force meeting will be held on Tuesday, September 25, 2018, from 8:30 a.m. to 4:30 p.m. Eastern Time (ET) and Wednesday, September 26, 2018, from 9:00 a.m. to 12:00 p.m. ET. The agenda will be posted on the Task Force website at https://www.hhs.gov/ash/advisory-committees/pain/index.html.

ADDRESSES: U.S. Department of Health and Human Services, Hubert H. Humphrey Building, Great Hall, 200 Independence Avenue SW, Washington, DC 20201.

FOR FURTHER INFORMATION CONTACT: Alicia Richmond Scott, Designated Federal Officer, Pain Management Best Practices Inter-Agency Task Force, U.S. Department of Health and Human Services, Office of the Assistant Secretary for Health, 200 Independence Avenue SW, Room 736E, Washington, DC 20201. Phone: 240-453-2816. Email: paintaskforce@hhs.gov.

SUPPLEMENTARY INFORMATION: Section 101 of the Comprehensive Addiction and Recovery Act of 2016 (CARA) requires the Secretary of Health and Human Services, in cooperation with the Secretaries of Defense and Veterans Affairs, to convene the Task Force no later than two years after the date of the enactment of CARA and develop a report to Congress with updates on best practices and recommendations on addressing gaps or inconsistencies for pain management, including chronic and acute pain. The Task Force is governed by the provisions of the Federal Advisory Committee Act (FACA), Public Law 92-463, as amended (5 U.S.C. App), which sets forth standards for the formation and use of advisory committees.

The Task Force will review clinical guidelines and identify gaps and/or inconsistencies for best practices for pain management, including chronic and acute pain, developed or adopted by federal agencies; propose updates to best practices and recommendations for identified gaps or inconsistencies; provide a 90 day the public comment period on any proposed updates and recommendations; and develop a strategy for disseminating such proposed updates and recommendations to relevant federal agencies and the general public.

The Task Force will convene its second public meeting, on September 25 and 26, 2018, to discuss updates to existing best practices and recommendations based on gaps and inconsistencies for pain management, including chronic and acute pain. The Task Force will receive presentations from three Task Force subcommittees established at the inaugural Task Force meeting. The Task Force subcommittees will discuss recommendations for updates to best practices and recommendations for chronic and acute pain management and prescribing pain medication based on the components outlined in Section 101 of the CARA statute. The Task Force will deliberate and vote on the draft Task Force recommendations. Information about the final meeting agenda will be posted prior to the meeting on the Task Force website: https://www.hhs.gov/ash/advisorycommittees/pain/index.html.

Members of the public are invited to participate in person or by webcast. To join the meeting, individuals must pre-register at the Task Force website at https://www.hhs.gov/ash/advisory-committees/pain/index.html. Seating will be provided first to those who have pre-registered. Anyone who has not pre-registered will be accommodated on a first come, first served basis if additional seats are available 10 minutes before the meeting starts. Individuals who need special assistance, such as sign language interpretation or other reasonable accommodations, should indicate the special accommodation when registering online or by notifying the Office of the Assistant Secretary for Health via email at paintaskforce@hhs.gov by September 21, 2018. The subject line of the email should read, “Task Force Meeting Accommodations.” Non-U.S. citizens who plan to attend in person are required to provide additional information and must notify the Task Force staff via email at paintaskforce@hhs.gov 10 business days before the meeting, September 11, 2018. For those unable to attend in person, a live webcast will be available. More information on registration and accessing the webcast can be found at https://www.hhs.gov/ash/advisory-committees/pain/index.html.

Members of the public can provide oral comments at the Task Force meeting on September 25, 2018, at 9:20 a.m.-9:50 a.m. ET. Please indicate your willingness to provide oral comments on the registration form which can be found at https://www.hhs.gov/ash/advisory-committees/pain/index.html. Individuals who pre-register will be given priority to provide oral public comment within the order they are received. The public comment period will not be extended beyond the allotted time on the agenda. Public comments made during the meeting will be limited to three minutes per person to ensure time is allotted for all those wishing to speak. Please note that the public comment period may end before the time indicated, following the last call for comments. Individuals who are not able to provide oral comments are encouraged to submit their written comments. Written comments should not exceed one page in length. Individuals submitting written comments should submit their comments through the Federal eRulemaking Portal at http://www.regulations.gov, docket number HHS-OS-2018-0016.

Dated: August 9, 2018.
Vanila M. Singh,
Chief Medical Officer, Chair, Pain Management Task Force, Office of the Assistant Secretary for Health.

[FR Doc. 2018-17446 Filed 8-13-18; 8:45 am]

BILLING CODE 4150-28-P